DEPARTMENT OF THE INTERIOR

Bureau of Land Management

[OR 038-1220-AL-24-1A; HAG07-0036]

Call for Nominations for National Historic Oregon Trail Interpretive Center Advisory Board

AGENCY: Bureau of Land Management, Interior.

ACTION: Solicitation of applications.

SUMMARY: This notice is to request nominations for the National Historic Oregon Trail Interpretive Center Advisory Board. The seven member terms on the Board expired December 29, 2006. The Board provides advice and recommendations to the Bureau of Land Management (BLM) on resource management issues associated with the Oregon Trail Interpretive Center.

DATES: Submit completed nomination forms and nomination letters to the address listed below no later than May 17, 2007.

ADDRESSES: Applications are available from, and candidates should send nominations to: Pam Robbins, OR-912, Bureau of Land Management, (pam_robbins@blm.gov), P.O. Box 2965, Portland, Oregon 97208, (503) 808-6306.

FOR FURTHER INFORMATION CONTACT: Pam Robbins, (503) 808-6306.

SUPPLEMENTARY INFORMATION: Individuals and organizations may nominate themselves or one or more other persons to serve on the Interpretive Center Advisory Board. Council members serve two year terms. Meetings are usually held quarterly, or as needed to accomplish Board business. Nomination forms can be obtained from the BLM, (see address above). Nominations must include a completed nomination form, letter(s) of reference from the interests or organizations the nominee intends to represent, and other material showing the nominee's qualifications. The letter of nomination and the nomination form should identify the category the nominee would like to represent. Membership on the Board will be balanced among the following interest categories:

(1) Federal, county and local governments;

(2) The local business community;

(3) Trail advocacy groups; and

(4) The public-at-large.

The National Historic Oregon Trail Interpretive Center Advisory Board advises the BLM on the management of the Center. Each member will be a person who, as a result of training and experience, has knowledge or special expertise that qualifies them to provide advice from among the categories of interest listed above. Members serve without monetary compensation, but will be reimbursed for travel and per diem expenses at current rates for government employees.

Kathy Eaton,
Associate State Director, Oregon/Washington BLM.

[FR Doc. E7-7264 Filed 4-16-07; 8:45 am]

BILLING CODE 4310-PK-P